DEPARTMENT OF COMMERCE

International Trade Administration

A-570-504

Petroleum Wax Candles from the People's Republic of China: Initiation of New Shipper Review

AGENCY: Import Administration, International Trade Administration, Department of Commerce.

EFFECTIVE DATE: March 28, 2007.

SUMMARY: The Department of Commerce (the “Department”) has determined that a request for a new shipper review of the antidumping duty order on petroleum wax candles from the People's Republic of China (“PRC”), received before February 28, 2007, meets the statutory and regulatory requirements for initiation. The period of review (“POR”) of this new shipper review is August 1, 2006, through January 31, 2007.

FOR FURTHER INFORMATION CONTACT: Nicole Bankhead, AD/CVD Operations, Office 9, Import Administration, International Trade Administration, U.S. Department of Commerce, 14th Street and Constitution Avenue, NW, Washington, DC 20230; telephone: (202) 482-9068.

SUPPLEMENTARY INFORMATION:

Background

The notice announcing the antidumping duty order on petroleum wax candles from the PRC published in the Federal Register on August 28, 1986. See Antidumping Duty Order: Petroleum Wax Candles From the People's Republic of China, 51 FR 30686 (August 28, 1986).¹ On February 16, 2007, pursuant to 19 CFR 351.214(c), the Department received a new shipper review request from Hangzhou Fashion Living Co., Ltd (“Fashion Living”). On March 7, 2007, the Department requested that Fashion Living correct certain filing deficiencies. See the Department's letter dated March 7, 2007. On March 8, 2007, Fashion Living resubmitted its new shipper request. Fashion Living certified that it is both the producer and exporter of the subject merchandise upon which the request for a new shipper review is based.

¹ Therefore, a request for a new shipper review based on the semiannual anniversary month, February, was due to the Department by February 28, 2007. See 19 CFR 351.214(d)(2).

Pursuant to section 751(a)(2)(B)(i)(I) of the Tariff Act of 1930, as amended (“the Act”), and 19 CFR 351.214(b)(2)(i), Fashion Living certified that it did not export petroleum wax candles to the United States during the period of investigation (“POI”). In addition, pursuant to section 751(a)(2)(B)(i)(II) of the Act and 19 CFR 351.214(b)(2)(iii)(A), Fashion Living certified that, since the initiation of the investigation, it has never been affiliated with any PRC exporter or producer who exported petroleum wax candles to the United States during the POI, including those not individually examined during the investigation. As required by 19 CFR 351.214(b)(2)(iii)(B), Fashion Living also certified that its export activities were not controlled by the central government of the PRC.

In addition to the certifications described above, pursuant to 19 CFR 351.214(b)(2)(iv), Fashion Living submitted documentation establishing the following: (1) the date on which Fashion Living first shipped petroleum wax candles for export to the United States and the date on which the petroleum wax candles were first entered, or withdrawn from warehouse, for consumption; (2) the volume of its first shipment; ² and (3) the date of its first sale to an unaffiliated customer in the United States.

² Fashion Living made no subsequent shipments to the United States, which the Department corroborated using data from U.S. Customs and Border Protection.

The Department conducted customs database queries to confirm that Fashion Living's shipment of subject merchandise had entered the United States for consumption and had been suspended for antidumping duties. We confirmed that Fashion Living's shipment had entered for consumption and been suspended for antidumping duties.

Initiation of New Shipper Review

Pursuant to section 751(a)(2)(B) of the Act and 19 CFR 351.214(d)(1), the Department finds that Fashion Living's request meets the threshold requirements for initiation of a new shipper review for the shipment of petroleum wax candles from the PRC it produced and exported. See Memo to the File from Nicole Bankhead, Senior Case Analyst, through Alex Villanueva, Program Manager, Office 9: New Shipper Review Initiation Checklist, dated March 19, 2007.

The POR for this new shipper review is August 1, 2006, through January 31, 2007. See 19 CFR 351.214(g)(1)(ii)(B). The Department intends to issue the preliminary results of this review no later than 180 days from the date of initiation, and final results of this review no later than 270 days from the date of initiation. See section 751(a)(2)(B)(iv) of the Act.

Interested parties requiring access to proprietary information in this new shipper review should submit applications for disclosure under administrative protective order in accordance with 19 CFR 351.305 and 351.306. This initiation and notice are published in accordance with section 751(a)(2)(B) of the Act and 19 CFR 351.214 and 351.221(c)(1)(i).

Dated: March 19, 2007.
Stephen J. Claeys,
Deputy Assistant Secretary for Import Administration.

[FR Doc. E7-5713 Filed 3-27-07; 8:45 am]

BILLING CODE 3510-DS-S